DEPARTMENT OF DEFENSE

Department of the Army

Army Science Board; Notice of Open Meeting

In accordance with Section 10(a)(2) of the Federal Advisory committee Act (Pub. L. 92-463), announcement is made of the following Committee Meeting:

Name of Committee: Army Science Board (ASB).

Date(s) of Meeting: 21-23 January 2003.

Time(s) of Meeting: 0800-1700, 21 January 2003, 0800-1700, 22 January 2003, 0800-1700, 23 January 2003.

Place: The Crystal City Marriott, Crystal City, VA.

Agenda: The Force Protection Study of the Army Science Board is holding a meeting on 21-23 January 2003. The meeting will be held at The Crystal City Marriott, 1999 Jefferson Davis Highway, Arlington, VA 22202. The meeting will begin at 0800 hrs on the 21st and will end at approximately 1600 hrs on the 23rd. For further information, please contact: Major Bob Grier—703-604-7478 or email robert.grier@saalt.army.mil.

Wayne Joyner,
Program Support Specialist, Army Science Board.

[FR Doc. 03-144 Filed 1-3-03; 8:45 am]

BILLING CODE 3710-08-M